DEPARTMENT OF AGRICULTURE

Grain Inspection, Packers and Stockyards Administration

[00-03-S]

Designation for the Detroit (MI), Keokuk (IA), Michigan (MI), Champaign (IL), Eastern Iowa (IA), and Enid (OK) Areas

AGENCY: Grain Inspection, Packers and Stockyards Administration (GIPSA).

ACTION: Notice.

SUMMARY: GIPSA announces designation of the following organizations to provide official services under the United States Grain Standards Act, as amended (Act): Detroit Grain Inspection Service, Inc. (Detroit); Keokuk Grain Inspection Service (Keokuk); Michigan Grain Inspection Services, Inc. (Michigan); Champaign-Danville Grain Inspection Departments, Inc. (Champaign); Eastern Iowa Grain Inspection and Weighing Service, Inc. (Eastern Iowa); and Enid Grain Inspection Company, Inc. (Enid).

Enid is also designated to provide Class X or Class Y weighing services in their geographic area.

EFFECTIVE DATES: May 1, 2001, for Detroit, Keokuk, and Michigan; and June 1, 2001, for Champaign, Eastern Iowa, and Enid.

ADDRESSES: USDA, GIPSA, Janet M. Hart, Chief, Review Branch, Compliance Division, STOP 3604, Room 1647-S, 1400 Independence Avenue, SW., Washington, DC 20250-3604.

FOR FURTHER INFORMATION CONTACT: Janet M. Hart at 202-720-8525, e-mail janhart@gipsadc.usda.gov.

SUPPLEMENTARY INFORMATION: This action has been reviewed and determined not to be a rule or regulation as defined in Executive Order 12866 and Departmental Regulation 1512-1; therefore, the Executive Order and Departmental Regulation do not apply to this action.

In the September 1, 2000, Federal Register (65 FR 53263), GIPSA asked persons interested in providing official services in the geographic areas assigned to the official agencies named above to submit an application for designation. Applications were due by October 1, 2000.

Each was the sole applicant for designation to provide official services in the entire area currently assigned to them, so GIPSA did not ask for comments on the applicants.

GIPSA evaluated all available information regarding the designation criteria in Section 7(f)(l)(A) of the Act and, according to Section 7(f)(l)(B), determined that each official agency is able to provide official services in the geographic areas, specified in the September 1, 2000, Federal Register, for which they applied. Additionally, Enid had asked GIPSA to amend their designation to include official weighing services. Section 7A(c)(2) of the Act authorizes GIPSA's Administrator to designate authority to perform official weighing to an agency providing official inspection services within a specified geographic area, if such agency is qualified under Section 7(f)(1)(A) of the Act. GIPSA evaluated all available information regarding the designation criteria in Section 7(f)(1)(A) of the Act, and determined that Enid is qualified to provide official weighing services in their currently assigned geographic area.

Interested persons may obtain official services by calling the telephone numbers listed below.

Official agency | Headquarters location and telephone | Designation start—end
Detroit | Emmett, MI, 810-395-2105 | 05/01/2001-03/31/2004
Keokuk | Keokuk, IA, 319-524-6482; Additional Service Location: Havana, IL | 05/01/2001-03/31/2004
Michigan | Marshall, MI, 616-781-2711; Additional Service Locations: Carrollton, MI; Lima, OH | 05/01/2001-03/31/2004
Champaign | Champaign, IL, 217-398-0723; Additional Service Locations: Hoopeston,IL; Terre Haute, IN | 06/01/2001-03/31/2004
Eastern Iowa | Davenport, IA, 319-322-7140; Additional Service Locations: Dubuque, and Muscatine, IA; Gulfport, IL | 06/01/2001-03/31/2004
Enid | Enid, OK, 580-233-1121; Additional Service Location: Catoosa, OK | 06/01/2001-03/31/2004

Authority: Pub. L. 94-582, 90 Stat. 2867, as amended (7 U.S.C. 71 et seq.).

Dated: February 20, 2001.
David R. Shipman,
Acting Administrator, Grain Inspection, Packers and Stockyards Administration.

[FR Doc. 01-5647 Filed 3-7-01; 8:45 am]

BILLING CODE 3410-EN-P